DEPARTMENT OF HEALTH AND HUMAN SERVICES

Centers for Disease Control and Prevention

Guide to Community Preventive Services (GCPS) Task Force

In accordance with section 10(a)(2) of the Federal Advisory Committee Act (Pub. L. 92-463), the Centers for Disease Control and Prevention CDC) announces the following meeting:

Name: Task Force on Community Preventive Services.

Times and Dates: 8:30 a.m.-6 p.m., October 20, 2004. 8:30 a.m.-1 p.m., October 21, 2004.

Place: The Crowne Plaza Ravinia, 4355 Ashford Dunwoody Road, Atlanta, Georgia 30346-1521, telephone (770) 395-7700.

Status: Open to the public, limited only by the space available.

Purpose: The mission of the Task Force is to develop and publish a Guide to Community Preventive Services, which is based on the best available scientific evidence and current expertise regarding essential public health and what works in the delivery of those services.

Matters To Be Discussed: Agenda items include: briefings on administrative information, dissemination and partnerships, and reactions to previously completed reviews on home visiting for violence prevention; discussions of method issues including how better to communicate findings of insufficient evidence and ways to link systematic review findings to “How to” materials that will make it easier for users to implement effective interventions; and progress on reviews of evidence on school based nutrition, folic acid fortification and supplementation, prevention of HIV in men who have sex with men, worksite health promotion, and alcohol use prevention.

Agenda items are subject to change as priorities dictate.

Contact Person or Additional Information: Peter Briss, M.D., Chief, Community Guide Branch, Division of Prevention Research and Analytic Methods, Epidemiology Program Office, CDC, 1600 Clifton Road, M/S: E90, Atlanta, GA 30333, Phone 404-498-6292, email pbriss@cdc.gov.

Persons interested in reserving a space for this meeting should call 404-498-6180 by close of business on October 18, 2004.

The Director, Management Analysis and Services office has been delegated the authority to sign Federal Register notices pertaining to announcements of meetings and other committee management activities, for both CDC and the Agency for Toxic Substances and Disease Registry.

Dated: October 14, 2004.
Alvin Hall,
Director, Management Analysis and Services Office, Centers for Disease Control and Prevention.

[FR Doc. 04-23433 Filed 10-19-04; 8:45 am]

BILLING CODE 4163-18-P